DEPARTMENT OF COMMERCE

International Trade Administration

A-533-809

Notice of Initiation of Antidumping Duty Changed Circumstances Review: Certain Forged Stainless Steel Flanges from India

AGENCY: Import Administration, International Trade Administration, Department of Commerce

SUMMARY: In response to a request by Isibars, Ltd. (Isibars), and pursuant to section 751(b) of the Tariff Act of 1930, as amended (the Act) and 19 CFR 351.216 and 351.221(c)(3), the Department is initiating a changed circumstances review of the antidumping duty order on forged stainless steel flanges from India. This review will determine whether India Steel Works, Ltd. (India Steel) is the successor-in-interest to Isibars.

EFFECTIVE DATE: March 20, 2008.

FOR FURTHER INFORMATION CONTACT: Fred Baker or Robert James, AD/CVD Operations, Office 7, Import Administration, International Trade Administration, U.S. Department of Commerce, 14th Street and Constitution Avenue, NW, Washington, DC 20230; telephone: (202) 482-2924 and (202) 482-0649, respectively.

SUPPLEMENTARY INFORMATION:

Background

On February 9, 1994, the Department published in the Federal Register the antidumping duty order on certain forged stainless steel flanges from India. See Amended Final Determination and Antidumping Duty Order; Certain Forged Stainless Steel Flanges From India, 59 FR 5994, (February 9, 1994).

Pursuant to a February 28, 2003, request from Isibars, the Department conducted an administrative review of the antidumping duty order on flanges from India. On March 5, 2004, the Department published the final results of the administrative review, determining that a dumping margin of zero percent existed for Isibars for the period February 1, 2002, through January 31, 2003. See Certain Forged Stainless Steel Flanges from India; Final Results of Antidumping Duty Administrative Review, 69 FR 10409 (March 5, 2004).

On February 26, 2008, Isibars filed a request for a changed circumstances administrative review of the antidumping duty order on flanges from India, claiming that Isibars has changed its name to India Steel. Isibars requested that the Department determine whether India Steel is the successor-in-interest to Isibars, in accordance with section 751(b) of the Act, and 19 CFR 351.216 (2007). In addition, Isibars submitted documentation from the government of India related to its name change. In response to Isibars’ request, the Department is initiating a changed circumstances review of this order.

Scope of the Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheadings are provided for convenience and customs purposes, the written description of the merchandise under review is dispositive of whether or not the merchandise is covered by the scope of the order.

Initiation of Antidumping Duty Changed Circumstances Review

Pursuant to section 751(b)(1) of the Act, the Department will conduct a changed circumstances review upon receipt of a request from an interested party or receipt of information concerning an antidumping duty order which shows changed circumstances exist to warrant a review of the order. On February 26, 2008, Isibars submitted its request for a changed circumstances review. With this request, Isibars submitted certain information related to its claim that Isibars changed its name to India Steel. Based on the information Isibars submitted regarding a name change, the Department has determined that changed circumstances sufficient to warrant a review exist. See 19 CFR 351.216(d).

In antidumping duty changed circumstances reviews involving a successor-in-interest determination, the Department typically examines several factors including, but not limited to’ (1) management; (2) production facilities; (3) supplier relationships; and (4) customer base. See Brass Sheet and Strip from Canada: Final Results of Antidumping Administrative Review, 57 FR 20460, 20462 (May 13, 1992) and Certain Cut-to-Length Carbon Steel Plate from Romania: Initiation and Preliminary Results of Changed Circumstances Antidumping Duty Administrative Review, 70 FR 22847 (May 3, 2005) (Plate from Romania). While no single factor or combination of factors will necessarily be dispositive, the Department generally will consider the new company to be the successor to the predecessor if the resulting operations are essentially the same as those of the predecessor company. See, e.g., Industrial Phosphoric Acid from Israel: Final Results of Antidumping Duty Changed Circumstances Review, 59 FR 6944, 6945 (February 14, 1994), and Plate from Romania, 70 FR 22847. Thus, if the record evidence demonstrates that, with respect to the production and sale of the subject merchandise, the new company operates as the same business entity as the predecessor company, the Department may assign the new company the cash deposit rate of its predecessor. See, e.g., Fresh and Chilled Atlantic Salmon from Norway: Final Results of Changed Circumstances Antidumping Duty Administrative Review, 64 FR 9979, 9980 (March 1, 1999). Although Isibars submitted documentation related to its name change, it failed to provide complete supporting documentation for the four elements listed above. Accordingly, the Department has determined that it would be inappropriate to expedite this action by combining the preliminary results of review with this notice of initiation, as permitted under 19 CFR 351.221(c)(3)(ii). Therefore, the Department is not issuing the preliminary results of its antidumping duty changed circumstances review at this time.

The Department will issue questionnaires requesting factual information for the review, and will publish in the Federal Register a notice of preliminary results of antidumping duty changed circumstances review, in accordance with 19 CFR 351.221(b)(2) and (4), and 19 CFR 351.221(c)(3)(i). The notice will set forth the factual and legal conclusions upon which our preliminary results are based and a description of any action proposed based on those results. Pursuant to 19 CFR 351.221(b)(4)(ii), interested parties will have an opportunity to comment on the preliminary results of review. In accordance with 19 CFR 351.216(e), the Department will issue the final results of its antidumping duty changed circumstances review not later than 270 days after the date on which the review is initiated.

During the course of this antidumping duty changed circumstances review, the cash deposit requirements for the subject merchandise exported and manufactured by India Steel will continue to be the rate established in the final results of the last administrative review for all other manufacturers and exporters not previously reviewed. See Certain Forged Stainless Steel Flanges from India: Notice of Final Results and Partial Rescission of Antidumping Duty Administrative Review, 72 FR 45221 (August 13, 2007). The cash deposit will be altered, if warranted, pursuant only to the final results of this review.

This notice of initiation is in accordance with section 751(b)(1) of the Act, 19 CFR 351.216(b) and (d), and 19 CFR 351.221(b)(1).

Dated: March 14, 2008.
Stephen J. Claeys,
Deputy Assistant Secretary for Import Administration.

[FR Doc. E8-5691 Filed 3-19-08; 8:45 am]

BILLING CODE 3510-DS-S